COMMITTEE FOR PURCHASE FROM PEOPLE WHO ARE BLIND OR SEVERELY DISABLED

Procurement List; Proposed Addition and Deletion

AGENCY: Committee for Purchase From People Who Are Blind or Severely Disabled.

ACTION: Proposed Addition to and Deletion from the Procurement List.

SUMMARY: The Committee is proposing to add a service to the Procurement List that will be provided by a nonprofit agency employing persons who are blind or have other severe disabilities, and deletes a product previously furnished by such agency.

Comments Must Be Received on or Before: 2/11/2013.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 USC 8503(a)(2) and 41 CFR 51-2.3. Its purpose is to provide interested persons an opportunity to submit comments on the proposed actions.

Addition

If the Committee approves the proposed addition, the entities of the Federal Government identified in this notice will be required to procure the service listed below from the nonprofit agency employing persons who are blind or have other severe disabilities.

The following service is proposed for addition to the Procurement List for production by the nonprofit agency listed:

Service

Service Type/Location: Reprographic Service, Department of State, Office of Logistics Management (OLM), (Offsite: 750 S 23rd Street, Arlington, VA), 1701 N Fort Myer Drive, Arlington, VA.

NPA: Linden Resources, Inc., Arlington, VA.

Contracting Activity: Department of State, Office of Acquisition Mgmt—MA, Arlington, VA.

Deletion

The following product is proposed for deletion from the Procurement List:

Product

Pencil, Woodcase, Rubberized

NSN: 7510-01-425-6766.

NPA: Industries for the Blind, Inc., West Allis, WI.

Contracting Activity: General Services Administration, New York, NY.

Barry S. Lineback,
Director, Business Operations.

[FR Doc. 2013-00422 Filed 1-10-13; 8:45 am]

BILLING CODE 6353-01-P